DEPARTMENT OF COMMERCE

National Oceanic and Atmospheric Administration

[Docket No. 000616180-0269-02]

RIN 0648

NOAA Climate and Global Change Program, Program Announcement

AGENCY: Office of Global Programs (OGP), National Oceanic and Atmospheric Administration (NOAA), Commerce.

ACTION: Revisions to the Notice from NOAA Climate and Global Change Program, CLIVAR Element, FOR FY 2001; invitation to submit proposals.

SUMMARY: NOAA amends the notice published in the Federal Register on August 25, 2000, regarding the NOAA Climate and Global Change Program to change the dates for receipt of Letters of Intent and Full Proposals (see DATES). NOAA also invites the submission of proposals.

DATES: Letters of Intent must be received no later than November 13, 2000, with full proposals postmarked on or before January 26, 2001.

ADDRESSES: Proposals should be sent to Office of Global Programs, National Oceanic and Atmospheric Administration, 1100 Wayne Avenue, Suite 1201, Silver Spring, MD 20910-5603.

FOR FURTHER INFORMATION CONTACT: Irma duPree at the above address or at phone: (301) 427-2089 ext 107, Internet: irma.dupree@noaa.gov.

SUPPLEMENTARY INFORMATION: The NOAA Office of Global Programs published a notice describing the Climate and Global Change Program, and funding area descriptions on August 25, 2000. (65 FR 51799.) The program description, evaluation criteria, selection process, background and requirements, as well as guidelines for applications are in that notice and are not repeated here. The Office hereby revises the dates for the submission of the LOI and full proposals (See DATES). The office invites the submission of proposals for CLIVAR.

Program authority: 49 U.S.C. 44720 (b); 33 U.S.C. 883D; 15 U.S.C. 2904; 15 U.S.C. 2931 et seq.; (CFDA No. 11.431)—Climate and Atmospheric Research.

Dated: October 10, 2000.
David L. Evans,
Assistant Administrator, OAR.

[FR Doc. 00-26463 Filed 10-13-00; 8:45 am]

BILLING CODE 3510-KB-M